DEPARTMENT OF COMMERCE

International Trade Administration

[A-475-818]

Certain Pasta from Italy: Extension of Time Limit for Preliminary Results of Antidumping Duty New Shipper Review

AGENCY: Import Administration, International Trade Administration, Department of Commerce.

EFFECTIVE DATE: July 28, 2003.

FOR FURTHER INFORMATION CONTACT: Alicia Kinsey at (202) 482-4793, Office of AD/CVD Enforcement VI, Group II, Import Administration, International Trade Administration, U.S. Department of Commerce, 14th Street and Constitution Ave, NW, Washington, DC 20230.

Time Limits

Statutory Time Limits

Section 751(a)(2)(B)(iv) of the Tariff Act of 1930, as amended (the Act), requires the Department of Commerce (the Department) to issue the preliminary results of a new shipper review within 180 days after the date on which the new shipper review was initiated and the final results within 90 days after the date on which the preliminary results are issued. See also 19 CFR § 351.214(i)(1). However, if the Department determines that the case is extraordinarily complicated and that the review cannot be completed within that time period, section 751(a)(2)(B)(iv) of the Act, and 19 CFR § 351.214(i)(2) allow the Department to extend the time limit for the preliminary results up to 300 days from the date of initiation and, for the final results, up to 150 days from the date the preliminary results are issued.

Background

On March 7, 2003, the Department published a notice of initiation of the new shipper review of the antidumping duty order on certain pasta from Italy, covering the period July 1, 2002 to December 31, 2002. See Certain Pasta from Italy: Notice of Initiation of New Shipper Antidumping Duty Review, 68 FR 11044 (March 7, 2003). The preliminary results are currently due no later than September 3, 2003.

Extension of Preliminary Results of Reviews

We determine that this case is extraordinarily complicated, and that it is not possible to complete the preliminary results of this review within the original time limits. Specifically, on June 24, 2003, the Department initiated a cost investigation and issued instructions to respondents to fill out the Section D questionnaire, specifying that responses would be due on July 25, 2003. To adequately analyze the responses and allow additional time necessary for the issuance and analysis of supplemental sales and cost questionnaires, the Department requires an extension of the time limit for the preliminary results. Therefore, we are extending the time limit for completion of the preliminary results until no later than January 2, 2004. See Extension of Time Limit for the Preliminary Results Memorandum from Melissa Skinner, Director of Office VI, to Holly A. Kuga, Acting Deputy Assistant Secretary, dated July 21, 2003, which is on file in the Central Records Unit, B-099 of the main Commerce Building. We intend to issue the final results no later than 90 days after the publication of the notice of preliminary results of this new shipper review.

This extension is in accordance with section 751(a)(2)(B)(iv) of the Act.

Dated: July 21, 2003.
Holly A. Kuga,
Acting Deputy Assistant Secretary for Import Administration.

[FR Doc. 03-19140 Filed 7-25-03; 8:45 am]

BILLING CODE 3510-DS-S